DEPARTMENT OF EDUCATION

Federal Perkins Loan, Federal Work-Study, and Federal Supplemental Educational Opportunity Grant Programs; 2022-23 Award Year Deadline Dates; Correction

AGENCY: Federal Student Aid, Department of Education.

ACTION: Notice; correction.

SUMMARY: On January 31, 2022, the Department of Education (Department) published in the Federal Register a notice announcing the 2022-23 Award Year deadline dates (the “Deadline Dates notice”) for the submission of requests and documents from postsecondary institutions for the Federal Perkins Loan (Perkins Loan) Program, Federal Work-Study (FWS), and Federal Supplemental Educational Opportunity Grant (FSEOG) programs (collectively, the “Campus-Based programs”). We are correcting the Deadline Dates notice by providing updated mailing addresses for submission of documents. All other information in the Deadline Dates notice remains the same.

DATES: This correction is applicable on November 23, 2022.

FOR FURTHER INFORMATION CONTACT: Shannon Mahan, Division Chief, Grants & Campus-Based Partner Division, U.S. Department of Education, Federal Student Aid, 830 First Street NE, Union Center Plaza, Room 64C4, Washington, DC 20202-5453. Telephone: (202) 377-3019. Email: shannon.mahan@ed.gov.

If you are deaf, hard of hearing, or have a speech disability and wish to access telecommunications relay services, please dial 7-1-1.

SUPPLEMENTARY INFORMATION: On January 31, 2022, the Department published the Deadline Dates notice (87 FR 4871). On February 11, 2022, the Department published a correction to the Deadline Dates notice (87 FR 8007). The Department is further correcting the Deadline Dates notice by changing the mailing addresses for submission of documents, to reflect the updated mailing address information for the Common Origination and Disbursement (COD) School Relations Center provided in the Department's Electronic Announcement (GEN-22-48), published on July 25, 2022. All other information in the Deadline Dates notice remains the same.

Corrections

In FR Doc 2022-01897 on pages 4871-4873 of the Federal Register of January 31, 2022, we make the following corrections:

1. On page 4872, in item 2 of the table, under the heading “How is it submitted?”:

A. Remove the mailing address following the words “mailed to:” and add, in its place, the following mailing address: “FISAP Administrator, U.S. Department of Education, P.O. Box 1130, Fairfax, VA 22038”.

B. Remove the mailing address following the words “mail to:” and add, in its place, the following mailing address: “FISAP Administrator, 4050 Legato Road #1100, Fairfax, VA 22033”.

2. On page 4872, in item 3 of the table, under the heading “How is it submitted?”:

A. Remove the mailing address following the words “mailed to:” and add, in its place, the following mailing address: “FISAP Administrator, U.S. Department of Education, P.O. Box 1130, Fairfax, VA 22038”.

B. Remove the mailing address following the words “mail to:” and add, in its place, the following mailing address: “FISAP Administrator, 4050 Legato Road #1100, Fairfax, VA 22033”.

3. On page 4872, in item 4 of the table, under the heading “How is it submitted?”:

A. Remove the mailing address following the words “mailed to:” and add, in its place, the following mailing address: “FISAP Administrator, U.S. Department of Education, P.O. Box 1130, Fairfax, VA 22038”.

B. Remove the mailing address following the words “mail to:” and add, in its place, the following mailing address: “FISAP Administrator, 4050 Legato Road #1100, Fairfax, VA 22033”.

4. On page 4872, in item 5 of the table, revise the text under the heading “How is it submitted?” to read as follows:

The application and agreement must be submitted electronically through the Common Origination and Disbursement website at https://cod.ed.gov. The signature page must be signed by the institution's chief executive officer with an original signature and sent with all application documents to the U.S. Department of Education using one of the following addresses:

FISAP Administrator, U.S. Department of Education, P.O. Box 1130, Fairfax, VA 22038

Or for overnight delivery, FISAP Administrator, 4050 Legato Road #1100, Fairfax, VA 22033.

5. On page 4872, in item 9 of the table, under the heading “How is it submitted?”:

A. Remove the mailing address following the words “mailed to:” and add, in its place, the following mailing address: “FISAP Administrator, U.S. Department of Education, P.O. Box 1130, Fairfax, VA 22038”.

B. Remove the mailing address following the words “mail to:” and add, in its place, the following mailing address: “FISAP Administrator, 4050 Legato Road #1100, Fairfax, VA 22033”.

Program Authority: 20 U.S.C. 1070b et seq and 1087aa et seq.; 42 U.S.C. 2751 et seq.

Accessible Format: On request to the program contact person listed under FOR FURTHER INFORMATION CONTACT, individuals with disabilities can obtain this document and the Deadline Dates notice in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at www.federalregister.gov. Specifically, through the advanced search feature at this site, you can limit your search to documents published by the Department.

Richard Cordray,
Chief Operating Officer, Federal Student Aid.

[FR Doc. 2022-25515 Filed 11-22-22; 8:45 am]

BILLING CODE 4000-01-P